ENVIRONMENTAL PROTECTION AGENCY

40 CFR Part 52

[IN132-1a; FRL-6985-3]

Approval and Promulgation of Implementation Plans; Indiana

AGENCY: Environmental Protection Agency (EPA).

ACTION: Direct final rule.

SUMMARY: The EPA is approving revisions to particulate matter (PM) emissions regulations for Illinois Cereal Mills, Incorporated (Illinois Cereal Mills). This facility is located in Marion County, Indiana. The Indiana Department of Environmental Management (IDEM) submitted the revised regulations on August 2, 2000 as an amendment to its State Implementation Plan (SIP). The revisions consist of the relaxation of one annual emission limit and the tightening of another limit. These SIP revisions should result in no change in the overall particulate emissions. Analysis showed that air quality will not be harmed from this change in particulate emissions.

DATES: This rule is effective on July 30, 2001, unless the EPA receives relevant adverse written comments by July 2, 2001. If adverse comment is received, the EPA will publish a timely withdrawal of the rule in the Federal Register and inform the public that the rule will not take effect.

ADDRESSES: You should mail written comments to: J. Elmer Bortzer, Chief, Regulation Development Section, Air Programs Branch (AR-18J), U.S. Environmental Protection Agency, Region 5, 77 West Jackson Boulevard, Chicago, Illinois 60604.

You may inspect copies of Indiana's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone: (312) 886-6524, E-Mail: rau.matthew@epa.gov.

SUPPLEMENTARY INFORMATION: Throughout this document wherever “we,” “us,” or “our” are used we mean the EPA.

Table of Contents

I. What is the EPA approving?

II. What are the limit changes from the current rules?

III. Analysis of supporting materials provided by Indiana.

IV. What are the environmental effects of these actions?

V. EPA rulemaking actions.

VI. Administrative requirements.

I. What Is the EPA Approving?

The EPA is approving revisions to the particulate matter emissions regulations for Illinois Cereal Mills in Marion County, Indiana. IDEM submitted the revised regulation on August 2, 2000 as an amendment to its SIP.

The revisions are the relaxation of one annual emission limit for a boiler and the tightening of another limit for the head house portion of a grain elevator. These SIP revisions result in no change in the overall PM emissions from the Illinois Cereal Mills, Incorporated facility.

II. What Are the Limit Changes From the Current Rules?

Indiana has revised two long-term PM emissions limits for sources at Illinois Cereal Mills, Incorporated. Indiana has increased the annual emissions limit for the Cleaver Brooks Boiler from 0.7 tons per year (TPY) to 1.0 TPY, measured as total suspended particulate (TSP). Indiana has also decreased the annual emissions limit for the Head House Suction (Point #18) from 6.3 TPY to 6.0 TPY of TSP. The short-term emissions limits remain unchanged at 0.014 pounds per million British thermal units (lb/MMBtu) of energy input for the Cleaver Brooks Boiler and 0.030 grains per dry standard cubic foot (gr/dscf) of gas flow for the Head House Suction.

III. Analysis of Supporting Materials Provided by Indiana

The general criteria used by the EPA to evaluate such intra-facility emissions trades, or “bubbles,” under the Clean Air Act and applicable regulations are set out in the EPA's December 4, 1986, Emissions Trading Policy Statement (ETPS) (see 51 FR 43814). Illinois Cereal Mills' particulate emissions trade qualifies as a “de minimis” trade. The qualification for a “de minimis” trade is that the sum of particulate matter emissions increases, looking only at sources with increasing emissions, totals less than 25 TPY. The only increasing source, the Cleaver Brooks Boiler, has an emissions increase of 0.3 TPY particulate matter. Indiana did submit a modeling analysis, even though it was not required for this trade. The results of the modeling show zero air quality impact when considering only increased emissions from the Cleaver Brooks Boiler. Both of the modeled annual and 24-hour maximum PM concentration impacts were less than 0.1 micrograms per cubic meter (μg/m³) for the five years modeled.

IV. What Are the Environmental Effects of These Actions?

This SIP revision should not result in any change in particulate matter emissions from Illinois Cereal Mills. Qualifying for a de minimis trade means that the amount of emissions being increased is less than EPA designated significance levels found in 40 CFR 51.18(j)(1)(x) and 40 CFR 51.24(b)(23)(i). The modeling analysis submitted by the State demonstrates that there should be zero impact on all areas from modifying the particulate emissions limits. This SIP revision will not have an adverse effect on air quality.

V. EPA Rulemaking Actions

The EPA is approving, though direct final rulemaking, revisions to the particulate matter emissions regulations for Illinois Cereal Mills of Marion County, Indiana. The State of Indiana, in 326 Indiana Administrative Code 6-1-12(a), has changed the annual emissions limits for Illinois Cereal Mills (Plant ID 0020). For the Cleaver Brooks Boiler (Point ID 01), Indiana increased the limit from 0.7 to 1.0 TPY. Indiana decreased the emissions limit on the Head House Suction (Point ID 18) from 6.3 to 6.0 TPY.

We are publishing these actions without a prior proposal because we view these as noncontroversial revisions and anticipate no adverse comments. However, in the “Proposed Rules” section of today's Federal Register, we are publishing a separate document that will serve as the proposal to approve the SIP revision if adverse comments are filed. This rule will be effective on July 30, 2001 without further notice unless we receive relevant adverse written comment by July 2, 2001. If the EPA receives adverse comment, we will publish a final rule informing the public that this rule will not take effect. We will address all public comments in a subsequent final rule based on the proposed rule. The EPA does not intend to institute a second comment period on this action. Any parties interested in commenting on these actions must do so at this time.

VI. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective July 30, 2001 unless EPA receives adverse written comments by July 2, 2001.

Under section 307(b)(1) of the Clean Air Act, petitions for judicial review of this action must be filed in the United States Court of Appeals for the appropriate circuit by July 30, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: May 9, 2001.
Norman Neidergang,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c)(138) to read as follows:

§ 52.770 Identification of plan.

* * * * *

(c) * * *

(138) On August 2, 2000, Indiana submitted revised total suspended particulate emissions regulations for Illinois Cereal Mills, Incorporated in Marion County, Indiana. The submittal amends 326 IAC 6-1-12(a). It includes an increase in the annual particulate matter limit from 0.7 tons per year (TPY) to 1.0 TPY for a boiler and a decrease in the annual limit from 6.3 TPY to 6.0 TPY for a grain elevator.

(i) Incorporation by reference.

Emissions limits for Illinois Cereal Mills, Incorporated in Marion County contained in Indiana Administrative Code Title 326: Air Pollution Control Board, Article 6: Particulate Rules, Rule 1: Non-attainment Area Limitations, Section 12: Marion County, subsection (a). Filed with the Secretary of State on May 26, 2000 and effective on June 25, 2000. Published in 23 Indiana Register 2414 on July 1, 2000.

[FR Doc. 01-13506 Filed 5-30-01; 8:45 am]

BILLING CODE 6560-50-P